DEPARTMENT OF HOMELAND SECURITY

[Docket No. CISA-2021-0003]

Correction to Notice of Request for Revision of a Currently Approved Information Collection 1670-0014 for the Chemical Facility Anti-Terrorism Standards (CFATS)

AGENCY: Cybersecurity and Infrastructure Security Agency, DHS.

ACTION: Correction; extension of comment period.

SUMMARY: On June 23, 2021, the Cybersecurity and Infrastructure Security Agency (CISA) published a 30-day notice and requested comments to revise Information Collection Request (ICR) 1670-0014 in the Federal Register. This notice revises the instructions on how to submit public comments; provides an updated phone number for the point of contact; and updates the comment period for this notice.

DATES: Comments are due by July 29, 2021.

ADDRESSES: Written comments and recommendations for the proposed information collection should be sent within 30 days of publication of this notice to www.reginfo.gov/public/do/PRAMain. Find this particular information collection by selecting “Currently under 30-day Review—Open for Public Comments” or by using the search function.

Comments submitted in response to this notice may be made available to the public through relevant public websites. For this reason, please do not include in your comments information of a confidential nature, such as sensitive personal information or proprietary information. Please note that responses to this public comment request containing any routine notice about the confidentiality of the communication will be treated as public comments that may be made available to the public notwithstanding the inclusion of the routine notice. Comments that include protected information such as trade secrets, confidential commercial or financial information, Chemical-terrorism Vulnerability Information (CVI),¹ Sensitive Security Information (SSI),² or Protected Critical Infrastructure Information (PCII) ³ should not be submitted to the public docket. Comments containing protected information should be appropriately marked and packaged in accordance with all applicable requirements and submission must be coordinated with the point of contact for this notice provided in FOR FURTHER INFORMATION CONTACT section. CISA will forward all comments containing protected information that are received before the submission deadline to the OMB Desk Officer.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Lona Saccomando, 202-579-0590, CISARegulations@cisa.dhs.gov.

SUPPLEMENTARY INFORMATION: CISA published the required 30-day notice for ICR 1670-0014 in the Federal Register on June 23, 2021. See 86 FR 32953. The June 23, 2021 notice incorrectly instructed the public to submit comments using the Federal eRulemaking Portal. The correct instructions are provided in the ADDRESSES section of this notice. Any comments that are submitted using the Federal eRulemaking Portal will be forwarded to the OMB Desk Officer by CISA. The June 23, 2021 notice provided a nonworking phone number for the point of contact; therefore, an updated phone number has been provided in the FOR FURTHER INFORMATION CONTACT section. The June 23, 2021 notice also indicated that the comment period would be open for 60 days, instead of 30 days. The comment period has been updated in the DATES section of this notice. Public comments will be accepted for 30 days after the publication date of this corrective notice. Finally, CISA clarifies that it received one nongermane comment in response to the 60-day notice for ICR 1670-0014.⁴

⁴ The nongermane comment may be viewed at https://www.regulations.gov/comment/CISA-2021-0003-0002.

Authority: 6 U.S.C. 621-629.

Samuel Vazquez,
Acting Chief Information Officer, Department of Homeland Security, Cybersecurity and Infrastructure Security Agency.

[FR Doc. 2021-13852 Filed 6-28-21; 8:45 am]

BILLING CODE 9110-9P-P